DEPARTMENT OF TRANSPORTATION

Office of the Secretary

Federal Advisory Committee Act; Rapid Response Teams on Airport Security and Aircraft Security

AGENCY: Office of the Secretary, Department of Transportation (DOT).

ACTION: Notice.

SUMMARY: Notice is hereby given that the Department of Transportation's Rapid Response Teams on Airport Security and Aircraft Security will meet on an as-needed basis throughout the rest of September 2001. The purpose of the meetings is to review and evaluate means for improving the security of airports and aircraft against unlawful interference in light of the terrorist incidents of September 11, 2001. All meetings will be closed to the public because matters related to aviation security will be discussed. The bases for closing the meetings are section 10(d) of the Federal Advisory Committee Act and 5 U.S.C. 552b(c)(3) and (4).

FURTHER INFORMATION: Questions regarding these meetings should be directed to David Tochen, Deputy Assistant General Counsel, Committee Management Officer, U.S. Department of Transportation, 400 7th Street, SW., Washington, DC 20590, phone number (202) 366-9161.

Issued on September 21, 2001.
Rosalind A. Knapp,
Acting General Counsel.

[FR Doc. 01-24479 Filed 9-28-01; 8:45 am]

BILLING CODE 4910-62-P